DEPARTMENT OF LABOR

Employment and Training Administration

Agency Information Collection Activities; Comment Request; Work Opportunity Tax Credit

ACTION: Notice.

SUMMARY: The Department of Labor's (DOL's) Employment and Training Administration (ETA) is soliciting comments concerning a proposed extension for the authority to conduct the information collection request (ICR) titled, “Work Opportunity Tax Credit.” This comment request is part of continuing Departmental efforts to reduce paperwork and respondent burden in accordance with the Paperwork Reduction Act of 1995 (PRA).

DATES: Consideration will be given to all written comments received by December 20, 2019.

ADDRESSES: A copy of this ICR with applicable supporting documentation, including a description of the likely respondents, proposed frequency of response, and estimated total burden, may be obtained free by contacting David Jones by telephone at 202-693-3397 (this is not a toll-free number), TTY 1-877-889-5627 (this is not a toll-free number), or by email at Jones.David.M@dol.gov.

Submit written comments about, or requests for a copy of, this ICR by mail or courier to the U.S. Department of Labor, Employment and Training Administration—Division of National Program Tools and Technical Assistance, 200 Constitution Avenue NW, C4526, Washington, DC 20210, by email: Jones.David.M@dol.gov or by fax (202) 693-3981.

FOR FURTHER INFORMATION CONTACT: Contact David Jones by telephone at 202-693-3397 (this is not a toll-free number) or by email at Jones.David.M@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

On December 8, 2015, the Work Opportunity Tax Credit (WOTC) program was extended and amended by the Protecting Americans from Tax Hikes Act of 2015, (Pub. L. 114-113), div. Q (PATH Act). The WOTC is a Federal tax credit available to employers for hiring individuals from certain target groups who have consistently faced significant barriers to employment. The PATH Act retroactively reauthorized the WOTC program and all its current target groups for a five-year period, from January 1, 2015 to December 31, 2019. Additionally the PATH Act introduced a new target group, Qualified Long-term Unemployment Recipients, for new hires that begin to work for an employer on or after January 1, 2016 through December 31, 2019. Section 51 and 3111(e) of the Internal Revenue Code (Code) and the Small Business Job Protection Act of 1996, (Pub. L. 104-188), including Title 26 U.S.C. authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0371.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Work Opportunity Tax Credit.

Form: (1) ETA Form 9058, Report 1—Certification Workload and Characteristics of Certified Individuals; (2) ETA Form 9061, Individual Characteristics Form; (3) ETA Form 9061, Spanish version; (4) ETA Form 9062, Conditional Certification; (5) ETA Form 9063, Employer Certification, (6) ETA Form 9065, Agency Declaration of Verification Results Worksheet; and (7) ETA Form 9175, Long-term Unemployment Recipient Self-Attestation Form.

OMB Control Number: 1205-0371.

Affected Public: State Workforce Agencies (SWAs), Private Sector, Individuals or Households and 501(c) Tax-Exempt organizations hiring certain Veterans.

Estimated Number of Respondents: 5,693,537.

Frequency: Varies.

Total Estimated Annual Responses: 13,527,080.

Estimated Average Time per Response: Varies.

Estimated Total Annual Burden Hours: 4,455,141 hours.

Total Estimated Annual Other Cost Burden: $0.

John Pallasch,
Assistant Secretary for Employment and Training.

[FR Doc. 2019-22875 Filed 10-18-19; 8:45 am]

BILLING CODE 4510-FN-P